OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Mr. Art Walker, Center for Leadership and Executive Resources Policy, Division for Strategic Human Resources Policy, (202) 606-1506.

SUPPLEMENTARY INFORMATION: Appearing in the listing below are the individual authorities established under a Schedule B authority that was approved in August 3, 2004, and Schedule C's between September 1, 2004, and September 30, 2004. Future notices will be published on the fourth Tuesday of each month, or as soon as possible thereafter. A consolidated listing of all authorities as of June 30 is published each year.

Schedule A

No Schedule A appointments were approved for September 2004.

Schedule B

U.S. Department of Agriculture 213.3213(b)(1)

Temporary positions of professional Research Scientists, GS-15 or below, in the Agricultural Research Service, Economic Research Service, and the Forest Service, when such positions are established in support the Research Associateship Program and are filled by person having a doctoral degree in an appropriate field of study for research activities of mutual interest to appointees and the agency. Appointments are limited to proposals approved by the appropriate Administrator. Appointments may be made for initial periods not to exceed 2 years and may be extended for up to 2 additional years. Extension beyond 4 years, up to a maximum of 2 additional years, may be granted, but only in very rare and unusual circumstances, as determined by the Human Resources Officer for the Research, Education, and Economics Mission Area, or the Human Resources Officer, Forest Service. Effective August 3, 2004.

Schedule C

The following Schedule C appointments were approved for September 2004:

Section 213.3303 Executive Office of the President

Office of National Drug Control Policy

QQGS60010 Public Affairs Specialist to the Associate Director, Public Affairs. Effective September 2, 2004.

QQGS60009 Legal Analyst to the General Counsel. Effective September 14, 2004.

QQGS00028 White House Liaison and Intergovernmental Affairs Specialist to the Chief of Staff. Effective September 20, 2004.

Section 213.3304 Department of State

DSGS60790 Special Assistant to the Assistant Secretary for Economical Business Affairs. Effective September 7, 2004.

DSGS60792 Legislative Management Officer to the Assistant Secretary for Legislative and Intergovernmental Affairs. Effective September 7, 2004.

DSGS60793 Chief, Voluntary Visitors Division to the Assistant Secretary for Education and Cultural Affairs. Effective September 7, 2004.

DSGS60794 Special Assistant to the Assistant Secretary for Public Affairs. Effective September 7, 2004.

DSGS60786 Senior Advisor to the Coordinator. Effective September 7, 2004.

DSGS60795 Member, Policy Planning Staff to the Director, Policy Planning Staff. Effective September 7, 2004.

DSGS60789 Senior Advisor to the Under Secretary for Public Diplomacy and Public Affairs. Effective September 14, 2004.

DSGS60785 Foreign Affairs Officer to the Assistant Secretary for International Organizational Affairs. Effective September 17, 2004.

DSGS60796 Program Analyst to the Assistant Secretary for Education and Cultural Affairs. Effective September 28, 2004.

Section 213.3305 Department of the Treasury

DYGS00444 Special Assistant to the Deputy Assistant Secretary (Public Liaison, Strategic Planning and Business Development). Effective September 14, 2004.

DYGS00445 Senior Advisor to the Secretary (Scheduling) to the Chief of Staff. Effective September 23, 2004.

Section 213.3306 Department of Defense

DDGS16834 Staff Assistant to the Principal Deputy Under Secretary of Defense for Policy. Effective September 17, 2004.

DDGS16839 Supervisory Public Affairs Specialist to the Deputy Assistant Secretary of Defense (Internal Communications). Effective September 23, 2004.

DDGS16838 Defense Fellow to the Special Assistant to the Secretary of Defense for White House Liaison. Effective September 24, 2004.

DDGS16836 Defense Fellow to the Special Assistant to the Secretary of Defense for White House Liaison. Effective September 29, 2004.

Section 213.3307 Department of the Army

DWGS60051 Special Assistant to the Assistant Secretary of the Army (Research, Development and Acquisition). Effective September 10, 2004.

DWGS00083 Personal and Confidential Assistant to the Principal Deputy Assistant Secretary of the Army (Acquisition, Logistics and Technology) and Director for Iraq Reconstruction and Program Management. Effective September 29, 2004.

Section 213.3308 Department of the Navy

DNGS00064 Confidential Assistant to the Assistant Secretary of Navy (Installations and Environment). Effective September 17, 2004.

Section 213.3310 Department of Justice

DJGS00237 Press Assistant to the Director, Office of Public Affairs. Effective September 24, 2004.

Section 213.3311 Department of Homeland Security

DMGS00264 Executive Assistant to the Chief of Staff. Effective September 7, 2004.

DMGS00269 Special Assistant to the Under Secretary for Science and Technology. Effective September 07, 2004.

DMGS00259 Counter Narcotics Liaison to the Counter Narcotics Officer. Effective September 08, 2004.

Section 213.3314 Department of Commerce

DCGS00676 Senior Advisor to the Assistant Secretary for Manufacturing and Services. Effective September 24, 2004.

DCGS00651 Public Affairs Specialist to the Director of Public Affairs. Effective September 29, 2004.

Section 213.3315 Department of Labor

DLGS60126 Special Assistant to the Deputy Assistant Secretary for Labor Management Programs. Effective September 23, 2004.

Section 213.3316 Department of Health and Human Services

DHGS60527 Confidential Assistant (Scheduling) to the Director of Scheduling. Effective September 23, 2004.

Section 213.3317 Department of Education

DBGS00360 Deputy Secretary's Regional Representative to the Deputy Assistant Secretary for Regional Services. Effective September 21, 2004.

DBGS00359 Confidential Assistant to the Deputy Assistant Secretary for Enforcement. Effective September 22, 2004.

DBGS00358 Special Assistant to the Deputy Assistant Secretary for Enforcement. Effective September 28, 2004.

DBGS00362 Deputy Secretary's Regional Representative to the Deputy Assistant Secretary for Regional Services. Effective September 30, 2004.

Section 213.3318 Environmental Protection Agency

EPGS04022 Senior Advisor to the Deputy Assistant Administrator for Water. Effective September 14, 2004.

EPGS60018 Great Lakes Special Assistant to the Administrator. Effective September 23, 2004.

Section 213.3325 United States Tax Court

JCGS60078 Trial Clerk to the Chief Judge. Effective September 20, 2004.

Section 213.3327 Department of Veterans Affairs

DVGS60032 Director, Center for Faith Based Community Initiatives to the Assistant Secretary for Public and Intergovernmental Affairs. Effective September 14, 2004.

Section 213.3331 Department of Energy

DEGS00430 Confidential Assistant to the Deputy Administrator for Defense Nuclear Nonproliferation. Effective September 16, 2004.

DEGS00427 Policy Advisor to the Assistant Secretary for Environment, Safety and Health. Effective September 28, 2004.

Section 213.3355 Social Security Administration

SZGS00013 Special Assistant to the Commissioner (Advance and Liaison) to the Commissioner. Effective September 23, 2004.

Section 213.3384 Department of Housing and Urban Development

DUGS00170 Staff Assistant to the Assistant Secretary for Public and Indian Housing. Effective September 23, 2004.

Authority: 5 U.S.C. 3301 and 3302; E.O. 10577, 3 CFR 1954-1958 Comp., P.218.

Office of Personnel Management.
Kay Coles James,
Director.

[FR Doc. 04-23695 Filed 10-21-04; 8:45 am]

BILLING CODE 6325-38-M